DEPARTMENT OF ENERGY

Federal Energy Regulatory Commission

[Docket No. EG03-72-000, et al.]

Whiting Clean Energy, Inc., et al.; Electric Rate and Corporate Filings

May 29, 2003.

The following filings have been made with the Commission. The filings are listed in ascending order within each docket classification.

1. Whiting Clean Energy, Inc.

[Docket No. EG03-72-000]

Take notice that on May 21, 2003, Whiting Leasing LLC (WL), 801 East 86th Avenue, Merrillville, Indiana 46410, filed with the Federal Energy Regulatory Commission (Commission) an Application for Determination of Exempt Wholesale Generator Status pursuant to part 365 of the Commission's Regulations and Section 32 of the Public Utility Holding Company Act, as amended (the Application).

WL states that it is an Indiana Corporation that will own and lease a gas-fired combined cycle cogeneration facility rated at approximately 525 MW capacity and that the facility will be used for the generation of electricity exclusively for sale at wholesale. WL further states that copies of this application have been served upon the Indiana Utility Regulatory Commission and the Securities and Exchange Commission.

Comment Date: June 11, 2003.

2. Phibro Inc.

[Docket No. ER95-430-024]

Take notice that on May 27, 2003, Phibro Inc., tendered for filing an updated market power analysis in compliance with the Commission's orders authorizing Phibro Inc., to engage in wholesale sales of electric power at market-based rates.

Comment Date: June 17, 2003.

3. Entergy Services, Inc.

[Docket No. ER02-1783-001]

Take notice that on May 27, 2003, Entergy Services, Inc., on behalf of Entergy Arkansas, Inc., Entergy Gulf States, Inc., Entergy Louisiana, Inc., Entergy Mississippi, Inc., and Entergy New Orleans, Inc., (collectively, the Entergy Operating Companies) tendered for filing a compliance refund report in accordance with the Commission's letter order in Docket No. ER02-1783-000 issued April 11, 2003.

Comment Date: June 17, 2003.

4. Southern California Edison Company

[Docket No. ER03-142-004]

Take notice that on May 27, 2003, Southern California Edison Company (SCE) tendered for filing revised rate sheets for its Transmission Owner Tariff (TO Tariff), FERC Electric Tariff, Second Revised Volume No. 6, and for its Existing Transmission Contracts with the city of Colton, California. SCE states that the purpose of this filing is to comply with the Federal Energy Regulatory Commission's Order On Compliance and Rehearing dated May 12, 2003,103 FERC ¶ 61,166.

SCE states that copies of this filing were served upon the Service List compiled by the Secretary in this docket.

Comment Date: June 17, 2003.

5. San Diego Gas & Electric Company

[Docket No. ER03-217-003]

Take notice that on May 27, 2003, San Diego Gas & Electric Company (SDG&E) pursuant to FERC's Order issued January 24, 2003, 102 FERC ¶ 61,063, tendered for filing Service Agreements Nos. 17 and 18 to its FERC Electric Tariff, First Revised Volume No. 6. SDG&E states that these agreements were accepted for filing on January 24, 2003, conditioned upon SDG&E's filing of designations for both interconnection agreements in compliance with Order No. 614 and Section 35.9(a) of the Commission's Regulations.

SDG&E states that copies of the filing have been served on Termoelectrica de Mexicali S. de R.L. de C.V., Termoelectrica U.S., LLC, and on the California Public Utilities Commission.

Comment Date: June 17, 2003.

6. Virginia Electric and Power Company

[Docket No. ER03-519-001]

Take notice that on May 27, 2003, Virginia Electric and Power Company, doing business as Dominion Virginia Power, tendered for filing an amendment to its February 11, 2003 filing of the revised Generator Interconnection and Operating Agreement (Interconnection Agreement) between Dominion Virginia Power and Old Dominion Electric Cooperative, Inc. (ODEC) to interconnect ODEC's Marsh Run CT Project with Dominion Virginia Power's transmission system. Dominion Virginia Power states the amendment is in response to the Commission's April 11, 2003 letter requesting additional information regarding the Interconnection Agreement.

Dominion Virginia Power states that copies of the filing were served upon ODEC and the Virginia State Corporation Commission.

Comment Date: June 17, 2003.

7. Midwest Independent Transmission System Operator, Inc.

[Docket No. ER03-787-001]

Take notice that on May 27, 2003, Midwest Independent Transmission System Operator, Inc. (Midwest ISO) submitted for filing, pursuant to Section 205 of the Federal Power Act and Section 35.12 of the Commission's regulations, an executed Interconnection and Operating Agreement among Interstate Power and Light Company, a wholly owned subsidiary of Alliant Energy and Flying Cloud Power Partners, LLC.

Midwest ISO states that a copy of this filing was sent to Interstate Power and Light Company and Flying Cloud Power Partners, LLC.

Comment Date: June 17, 2003.

8. Lamar Power Partners, LP

[Docket No. ER03-874-000]

Take notice that on May 27, 2003, Lamar Power Partners, LP tendered for filing a Notice of Cancellation pursuant to 18 CFR 35.15 in order to reflect the cancellation of its market-based rate tariff, designated as FERC Electric Tariff, Original Volume No. 1, originally accepted for filing in Docket No. ER00-1844-000.

Comment Date: June 17, 2003

9. California Independent System Operator Corporation

[Docket No. ER03-875-000]

Take notice that on May 27, 2003, the California Independent System Operator Corporation (CAISO) submitted an amendment to the CAISO Tariff (Amendment No. 52). CAISO states that Amendment No. 52 eliminates the requirement that System Resources submitting Energy bids into the CAISO Real Time Markets limit such bids to $0/MWh. The CAISO proposes that System Resources be permitted to submit bids above $0/MWh in the CAISO Real Time Markets.

CAISO states that it has served copies of Amendment No. 52 upon the Public Utilities Commission of the State of California, the California Energy Commission, the California Electricity Oversight Board, and upon all parties with effective Scheduling Coordinator Service Agreements under the CAISO Tariff. In addition, the ISO states that it is posting Amendment No. 52 on the CAISO Home Page.

Comment Date: June 17, 2003.

10. Illumina Energy Solutions, Inc.

[Docket No. ER03-876-000]

Take notice that on May 27, 2003, Illumina Energy Solutions, Inc., (Illumina) petitioned the Commission for acceptance of Illumina Rate Schedule FERC No. 1; the granting of certain blanket approvals, including the authority to sell electricity at market-based rates; and the waiver of certain Commission regulations.

Comment Date: June 17, 2003.

11. Southern California Edison Company

[Docket No. ER03-877-000]

Take notice that on May 27, 2003, Southern California Edison Company (SCE) tendered for filing a Facilities Agreement under SCE's Transmission Owner Tariff (Tariff) between SCE and Southern California Public Power Authority (SCPPA).

SCE states that the Facilities Agreement specifies the terms and conditions pursuant to which SCE will engineer, design, construct, install and own the Reliability Upgrades to SCE's electrical system as a result of SCPPA's intent to construct and interconnect the Magnolia Power Project to the City of Burbank's Olive Substation and transmit a maximum of 200 MW of generation through the Los Angeles Department of Water and Power's electrical system.

SCE states that copies of this filing were served upon the Public Utilities Commission of the State of California and SCPPA.

Comment Date: June 17, 2003.

12. PJM Interconnection, L.L.C.

[Docket No. ER03-878-000]

Take notice that on May 27, 2003, PJM Interconnection, L.L.C. (PJM), submitted for filing a construction service agreement among PJM, Waymart Wind Farm L.P., and PPL Electric Utilities Corporation. PJM requests a waiver of the Commission's 60-day notice requirement to permit the requested May 12, 2003 effective date for the agreement.

PJM states that copies of this filing were served upon the parties to the agreement and the state regulatory commissions within the PJM region.

Comment Date: June 17, 2003.

13. Dominion Energy Marketing, Inc.

[Docket No. ER03-881-000]

Take notice that on May 27, 2003, Dominion Energy Marketing, Inc. (DEMI) tendered for filing with the Federal Energy Regulatory Commission (Commission) its request to amend the Western Systems Power Pool (WSPP) Agreement to include DEMI as a participant. DEMI requests that the Commission allow the amendment to the WSPP Agreement to become effective on May 27, 2003.

DEMI states that a copy of this filling has been served upon the WSPP Executive Committee Chair, WSPP Operating Committee Chair, WSPP General Counsel, and Arizona Public Service Company.

Comment Date: June 17, 2003.

14. Valero Refining Company, California

[Docket No. ER03-884-000]

Take notice that on May 27, 2003, Valero Refining Company—California, tendered for filing a Notice of Cancellation, pursuant to 18 CFR 35.15, giving notice of cancellation of its market-based electric tariff filed with the Commission and approved by letter order issued April 23, 2002.

Comment Date: June 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-14233 Filed 6-5-03; 8:45 am]

BILLING CODE 6717-01-P